DEPARTMENT OF DEFENSE

Department of the Navy

32 CFR Part 733

[Docket ID: USN-2017-HQ-0006]

RIN 0703-AA96

Assistance to and Support of Dependents; Paternity Complaints

AGENCY: Department of the Navy (DoN), DoD.

ACTION: Final rule.

SUMMARY: This final rule removes DoD's regulation requiring naval personnel to provide support to dependents. It has been determined that the content of this part is internal DoD policy, and while that policy is publicly available, the part should be removed.

DATES: This rule is effective on May 17, 2018.

FOR FURTHER INFORMATION CONTACT: CDR Amanda Myers, 703-697-1311.

SUPPLEMENTARY INFORMATION: It has been determined that publication of this CFR part removal for public comment is impracticable, unnecessary, and contrary to public interest since it is based on removing DoD internal policies and procedures that are publically available on the Department's website.

This part is proprietary or of unique interest to the Department of the Navy. The Military Personnel Manual (MILPERSMAN) (for the Navy) (available at http://www.public.navy.mil/bupers-npc/reference/milpersman/pages/default.aspx) and the Marine Corps Manual for Legal Administration (LEGADMINMAN) (for the Marine Corps) (available at http://www.marines.mil/Portals/59/MCOP5800.16AWCH1-7.pdf) are readily available online and used by commands as administrative tools to determine equitable support when there is no competent court order. There is no right afforded to the public (specifically, dependents) either by statute or internal service regulation. The MILPERSMAN and LEGADMINMAN are clear that the guidelines contained therein are tools that a commander may use to ensure good order and discipline within the unit. For these reasons, this part has been determined to be internal DoD policy and as such, it does not fall under the criteria of rulemaking under the Administrative Procedure Act.

This rule is not significant under Executive Order (E.O.) 12866, “Regulatory Planning and Review,” therefore, E.O. 13771, “Reducing Regulation and Controlling Regulatory Costs” does not apply.

List of Subjects in 32 CFR Part 733

Alimony, Child support, Claims, Military personnel, Wages.

PART 733—[REMOVED]

Accordingly, by the authority of 5 U.S.C. 301, 32 CFR part 733 is removed.

Dated: May 9, 2018.
E.K. Baldini,
Lieutenant Commander, Judge Advocate General's Corps, U.S. Navy, Federal Register Liaison Officer.

[FR Doc. 2018-10587 Filed 5-16-18; 8:45 am]

BILLING CODE 3810-FF-P